DEPARTMENT OF ENERGY

Federal Energy Regulatory Commission

Combined Notice of Filings #1

Take notice that the Commission received the following electric rate filings:

Docket Numbers: ER24-343-003.

Applicants: Nestlewood Solar I LLC.

Description: Notice of Non-Material Change in Status of Nestlewood Solar I LLC.

Filed Date: 1/29/26.

Accession Number: 20260129-5559.

Comment Date: 5 p.m. ET 2/19/26.

Docket Numbers: ER24-1832-003.

Applicants: North Fork Solar Project, LLC.

Description: Compliance filing: Notice of Change in Status and Revised Market-Based Rate Tariffs to be effective 2/3/2026.

Filed Date: 2/2/26.

Accession Number: 20260202-5099.

Comment Date: 5 p.m. ET 2/23/26.

Docket Numbers: ER24-1941-003.

Applicants: Liberty County Solar Project, LLC.

Description: Compliance filing: Notice of Change in Status and Revised Market-Based Rate Tariffs to be effective 2/3/2026.

Filed Date: 2/2/26.

Accession Number: 20260202-5092.

Comment Date: 5 p.m. ET 2/23/26.

Docket Numbers: ER24-2179-002.

Applicants: Bayou Galion Solar Project, LLC.

Description: Compliance filing: Notice of Change in Status and Revised Market-Based Rate Tariffs to be effective 2/3/2026.

Filed Date: 2/2/26.

Accession Number: 20260202-5091.

Comment Date: 5 p.m. ET 2/23/26.

Docket Numbers: ER24-2291-001.

Applicants: Portland General Electric Company.

Description: Compliance filing: Amended PGE BPA MO&O Agreement Compliance Filing to be effective 2/1/2026.

Filed Date: 1/30/26.

Accession Number: 20260130-5368.

Comment Date: 5 p.m. ET 2/20/26.

Docket Numbers: ER25-554-005; ER25-1338-005; ER26-684-001; ER25-704-005.

Applicants: Amite Solar, LLC, Flat Fork Interconnection, LLC, Flat Fork Solar, LLC, Wild Plains Wind Project, LLC.

Description: Notice of Change in Status of Wild Plains Wind Project, LLC, et al.

Filed Date: 1/29/26.

Accession Number: 20260129-5561.

Comment Date: 5 p.m. ET 2/19/26.

Docket Numbers: ER25-1339-004; ER26-687-001; ER25-1348-007.

Applicants: New Madrid Solar, LLC, Forgeview Interconnection, LLC, Forgeview Solar, LLC.

Description: Notice of Change in Status of Forgeview Solar, LLC, et al.

Filed Date: 1/29/26.

Accession Number: 20260129-5562.

Comment Date: 5 p.m. ET 2/19/26.

Docket Numbers: ER26-505-001.

Applicants: South River Phase II, LLC.

Description: Tariff Amendment: South River Phase II, LLC, MBR Application—Deficiency Response ER26-505—to be effective 11/14/2025.

Filed Date: 2/2/26.

Accession Number: 20260202-5155.

Comment Date: 5 p.m. ET 2/23/26.

Docket Numbers: ER26-529-000.

Applicants: Pacific Gas and Electric Company.

Description: Notice of Termination of Service Agreement No. 271 under Pacific Gas and Electric Company's FERC Electric Tariff Volume No. 4.

Filed Date: 1/29/26.

Accession Number: 20260129-5555.

Comment Date: 5 p.m. ET 2/19/26.

Docket Numbers: ER26-717-001.

Applicants: Midcontinent Independent System Operator, Inc., ALLETE, Inc.

Description: Tariff Amendment: ALLETE, Inc. submits tariff filing per 35.17(b): 2026-02-02_Amendment for Allete Order No. 898 Clean Up to be effective 1/1/2025.

Filed Date: 2/2/26.

Accession Number: 20260202-5125.

Comment Date: 5 p.m. ET 2/23/26.

Docket Numbers: ER26-1212-000.

Applicants: Nevada Power Company.

Description: 205(d) Rate Filing: Non-Conforming LGIA Filing to be effective 1/9/2026.

Filed Date: 1/30/26.

Accession Number: 20260130-5349.

Comment Date: 5 p.m. ET 2/20/26.

Docket Numbers: ER26-1213-000.

Applicants: Cheyenne Light, Fuel and Power Company.

Description: 205(d) Rate Filing: Integrate into the Black Hills Power Balancing Authority Area to be effective 4/1/2026.

Filed Date: 1/30/26.

Accession Number: 20260130-5354.

Comment Date: 5 p.m. ET 2/20/26.

Docket Numbers: ER26-1214-000

Applicants: Florida Power & Light Company.

Description: Tariff Amendment: Cancellation of NITSA No. 80 with FMPA to be effective 4/1/2026.

Filed Date: 1/30/26.

Accession Number: 20260130-5373.

Comment Date: 5 p.m. ET 2/20/26.

Docket Numbers: ER26-1215-000

Applicants: Alabama Power Company, Georgia Power Company, Mississippi Power Company.

Description: 205(d) Rate Filing: Alabama Power Company submits tariff filing per 35.13(a)(2)(iii: AMEA NITSA 2026 Rollover Filing to be effective 1/1/2026.

Filed Date: 1/30/26.

Accession Number: 20260130-5381.

Comment Date: 5 p.m. ET 2/20/26.

Docket Numbers: ER26-1216-000.

Applicants: Southwest Power Pool, Inc.

Description: 205(d) Rate Filing: 4617 Municipal Energy Agency of Nebraska NITSA and NOA to be effective 4/1/2026.

Filed Date: 1/30/26.

Accession Number: 20260130-5398

Comment Date: 5 p.m. ET 2/20/26.

Docket Numbers: ER26-1217-000.

Applicants: Black Hills Power, Inc.

Description: 205(d) Rate Filing: Fourth Amended and Restated Generation Dispatch and Energy Management Agreement to be effective 4/1/2025.

Filed Date: 1/30/26.

Accession Number: 20260130-5400.

Comment Date: 5 p.m. ET 2/20/26.

Docket Numbers: ER26-1218-000.

Applicants: Southwest Power Pool, Inc.

Description: 205(d) Rate Filing: 4618 Municipal Energy Agency of Nebraska NITSA and NOA to be effective 4/1/2026.

Filed Date: 1/30/26.

Accession Number: 20260130-5406.

Comment Date: 5 p.m. ET 2/20/26.

Docket Numbers: ER26-1219-000.

Applicants: Southwest Power Pool, Inc.

Description: 205(d) Rate Filing: MEAN-City of Delta, Colorado—Network Customer Transmission Credits to be effective 4/1/2026.

Filed Date: 1/30/26.

Accession Number: 20260130-5417.

Comment Date: 5 p.m. ET 2/20/26.

Docket Numbers: ER26-1220-000.

Applicants: Atlas Solar IV, LLC.

Description: Initial Rate Filing: Baseline New Market-Based Tariff to be effective 4/1/2026.

Filed Date: 1/30/26.

Accession Number: 20260130-5420.

Comment Date: 5 p.m. ET 2/20/26.

Docket Numbers: ER26-1221-000.

Applicants: Black Hills Power, Inc.

Description: 205(d) Rate Filing: Fourth Amended and Restated Generation Dispatch and Energy Management Agreement to be effective 4/1/2026.

Filed Date: 1/30/26.

Accession Number: 20260130-5425.

Comment Date: 5 p.m. ET 2/20/26.

Docket Numbers: ER26-1222-000.

Applicants: Southwest Power Pool, Inc.

Description: 205(d) Rate Filing: MEAN-City of Kimball, Colorado—Network Customer Transmission Credits to be effective 4/1/2026.

Filed Date: 1/30/26.

Accession Number: 20260130-5427.

Comment Date: 5 p.m. ET 2/20/26.

Docket Numbers: ER26-1223-000.

Applicants: Black Hills Power, Inc.

Description: 205(d) Rate Filing: Fourth Amended and Restated Generation Dispatch and Energy Management Agreement to be effective 4/1/2026.

Filed Date: 1/30/26.

Accession Number: 20260130-5430.

Comment Date: 5 p.m. ET 2/20/26.

Docket Numbers: ER26-1224-000.

Applicants: Atlas BESS IV, LLC.

Description: Initial Rate Filing: Baseline New Market-Based Tariff to be effective 4/1/2026.

Filed Date: 1/30/26.

Accession Number: 20260130-5432.

Comment Date: 5 p.m. ET 2/20/26.

Docket Numbers: EER26-1225-000.

Applicants: Black Hills Power, Inc.

Description: 205(d) Rate Filing: THIRD AMENDED AND RESTATED GENERATION DISPATCH AND ENERGY MANAGEMENT AGREEMENT to be effective 4/1/2026.

Filed Date: 1/30/26.

Accession Number: 20260130-5433.

Comment Date: 5 p.m. ET 2/20/26.

Docket Numbers: EER26-1226-000.

Applicants: Black Hills Power, Inc.

Description: 205(d) Rate Filing: Third Amended and Restated Generation Dispatch and Energy Management Agreement to be effective 4/1/2026.

Filed Date: 1/30/26.

Accession Number: 20260130-5439.

Comment Date: 5 p.m. ET 2/20/26.

Docket Numbers: EER26-1227-000.

Applicants: Atlas Solar II, LLC.

Description: Initial Rate Filing: Baseline New Market-Based Tariff to be effective 4/1/2026.

Filed Date: 1/30/26.

Accession Number: 20260130-5440.

Comment Date: 5 p.m. ET 2/20/26.

Docket Numbers: EER26-1229-000.

Applicants: Mid-Atlantic Interstate Transmission, LLC.

Description: 205(d) Rate Filing: Mid-Atlantic Interstate Transmission, LLC submits tariff filing per 35.13(a)(2)(iii: MAIT submits Construction Agmnts, SA No. 7211, 7224 to be effective 4/4/2026.

Filed Date: 2/2/26.

Accession Number: 20260202-5030.

Comment Date: 5 p.m. ET 2/23/26.

Docket Numbers: EER26-1230-000.

Applicants: Southwest Power Pool, Inc.

Description: 205(d) Rate Filing: 4613 Energy Keepers Market Participant Agr. to be effective 4/1/2026.

Filed Date: 2/2/26.

Accession Number: 20260202-5056.

Comment Date: 5 p.m. ET 2/23/26.

Docket Numbers: EER26-1232-000.

Applicants: Tri-State Generation and Transmission Association, Inc.

Description: Tariff Amendment: Notice of Cancellation of Service Agreement FERC No. 923 to be effective 1/1/2026.

Filed Date: 2/2/26.

Accession Number: 20260202-5079.

Comment Date: 5 p.m. ET 2/23/26.

Docket Numbers: EER26-1233-000.

Applicants: Alabama Power Company, Georgia Power Company, Mississippi Power Company.

Description: Tariff Amendment: Alabama Power Company submits tariff filing per 35.15: Seminole Solar Projects (Seminole V Solar + BESS) LGIA Termination Filing to be effective 2/2/2026.

Filed Date: 2/2/26.

Accession Number: 20260202-5097.

Comment Date: 5 p.m. ET 2/23/26.

Docket Numbers: EER26-1234-000.

Applicants: Alabama Power Company, Georgia Power Company, Mississippi Power Company.

Description: Tariff Amendment: Alabama Power Company submits tariff filing per 35.15: Seminole Solar Projects (Seminole VII Solar + BESS) LGIA Termination Filing to be effective 2/2/2026.

Filed Date: 2/2/26.

Accession Number: 20260202-5098.

Comment Date: 5 p.m. ET 2/23/26.

Docket Numbers: EER26-1235-000.

Applicants: Alabama Power Company, Georgia Power Company, Mississippi Power Company.

Description: Tariff Amendment: Alabama Power Company submits tariff filing per 35.15: Seminole Solar Projects (Seminole VIII Solar + BESS) LGIA Termination Filing to be effective 2/2/2026.

Filed Date: 2/2/26.

Accession Number: 20260202-5100.

Comment Date: 5 p.m. ET 2/23/26.

Docket Numbers: EER26-1236-000.

Applicants: Pitt Solar, LLC.

Description: Initial Rate Filing: Market-Based Rate Application to be effective 3/19/2026.

Filed Date: 2/2/26.

Accession Number: 20260202-5120.

Comment Date: 5 p.m. ET 2/23/26.

Docket Numbers: EER26-1237-000.

Applicants: Cherry Solar, LLC.

Description: Initial Rate Filing: Market-Based Rate Application to be effective 3/19/2026.

Filed Date: 2/2/26.

Accession Number: 20260202-5122.

Comment Date: 5 p.m. ET 2/23/26.

Docket Numbers: EER26-1238-000.

Applicants: Pacific Gas and Electric Company.

Description: 205(d) Rate Filing: WDT SA 275: City and County of San Francisco Q4 2025 Filing to be effective 12/31/2025.

Filed Date: 2/2/26.

Accession Number: 20260202-5146.

Comment Date: 5 p.m. ET 2/23/26.

Docket Numbers: EER26-1239-000.

Applicants: Baron Winds LLC.

Description: 205(d) Rate Filing: 2025 Q4 Change in Status to be effective 2/3/2026.

Filed Date: 2/2/26.

Accession Number: 20260202-5150.

Comment Date: 5 p.m. ET 2/23/26.

Docket Numbers: EER26-1240-000.

Applicants: Baron Winds II LLC.

Description: 205(d) Rate Filing: 2025 Q4 Change in Status to be effective 2/3/2026.

Filed Date: 2/2/26.

Accession Number: 20260202-5151.

Comment Date: 5 p.m. ET 2/23/26.

Docket Numbers: EER26-1241-000.

Applicants: Cassadaga Wind LLC.

Description: 205(d) Rate Filing: 2025 Q4 Change in Status to be effective 2/3/2026.

Filed Date: 2/2/26.

Accession Number: 20260202-5153.

Comment Date: 5 p.m. ET 2/23/26.

Docket Numbers: EER26-1242-000.

Applicants: Munnsville Wind Farm, LLC.

Description: 205(d) Rate Filing: 2025 Q4 Change in Status to be effective 2/3/2026.

Filed Date: 2/2/26.

Accession Number: 20260202-5154.

Comment Date: 5 p.m. ET 2/23/26.

Docket Numbers: EER26-1243-000.

Applicants: Green Mountain Power Corporation, ISO New England Inc.

Description: 205(d) Rate Filing: Green Mountain Power Corporation submits tariff filing per 35.13(a)(2)(iii: Green Mountain Power Order No. 898—Schedule 21 Filing to be effective 4/3/2026.

Filed Date: 2/2/26.

Accession Number: 20260202-5164.

Comment Date: 5 p.m. ET 2/23/26.

Docket Numbers: EER26-1244-000.

Applicants: Portland General Electric Company.

Description: 205(d) Rate Filing: PGE OATT Att P EIM Charge Codes to be effective 4/3/2026.

Filed Date: 2/2/26.

Accession Number: 20260202-5186.

Comment Date: 5 p.m. ET 2/23/26.

Take notice that the Commission received the following electric securities filings:

Docket Numbers: EES26-28-000.

Applicants: Monongahela Power Company.

Description: Application Under Section 204 of the Federal Power Act for Authorization to Issue Securities of Monongahela Power Company.

Filed Date: 1/29/26.

Accession Number: 20260129-5560.

Comment Date: 5 p.m. ET 2/19/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 2, 2026.
Debbie-Anne A. Reese,
Secretary.

[FR Doc. 2026-02360 Filed 2-5-26; 8:45 am]

BILLING CODE 6717-01-P